DEPARTMENT OF THE INTERIOR

National Park Service

[NPS-NERO-ACAD-0507-10276; 1700-SZM]

Notice of June 4, 2012, Meeting for Acadia National Park Advisory Commission

AGENCY: National Park Service, Interior.

ACTION: Meeting Notice.

SUMMARY: This notice sets the date of the June 4, 2012, meeting of the Acadia National Park Advisory Commission.

DATES: The public meeting of the Advisory Commission will be held on Monday, June 4, 2012, at 1:00 p.m. (Eastern).

Location: The meeting will be held at Headquarters, Acadia National Park, Bar Harbor, Maine 04609.

Agenda

The June 4, 2012, Commission meeting will consist of the following:

1. Committee reports:

—Land Conservation

—Park Use

—Science and Education

—Historic

2. Old Business.

3. Superintendent's Report.

4. Chairman's Report.

5. Public Comments.

FOR FURTHER INFORMATION CONTACT: Further information concerning this meeting may be obtained from the Superintendent, Acadia National Park, P.O. Box 177, Bar Harbor, Maine 04609, telephone (207) 288-3338.

SUPPLEMENTARY INFORMATION: An unusual combination of circumstances in the preparation, approval, and transmission of this notice has resulted in the publication of this notice less than 15 days before the date of the meeting. The National Park Service has made extraordinary efforts to provide notification to all Commission members and to the public. The meeting is open to the public. Interested persons may make oral/written presentations to the Commission or file written statements. Such requests should be made to the Superintendent at least seven days prior to the meeting. Before including your address, phone number, email address, or other personal identifying information in your comment, you should be aware that your entire comment—including your personal identifying information—may be made publicly available at any time. While you can ask us in your comment to withhold your personal identifying information from public review, we cannot guarantee that we will be able to do so.

Dated: May 22, 2012.
Bernard C. Fagan,
Chief, Office of Policy.

[FR Doc. 2012-13107 Filed 5-29-12; 8:45 am]

BILLING CODE 4310-2N-P